DEPARTMENT OF DEFENSE

Office of the Secretary

[Docket ID DoD-2014-OS-0105]

Privacy Act of 1974; System of Records

AGENCY: Defense Health Agency, DoD.

ACTION: Notice to add a new System of Records.

SUMMARY: The Defense Health Agency is proposing to establish a new system of records, EDHA 25 DoD, entitled “Enterprise Blood Management System (EBMS)” in its inventory of record systems subject to the Privacy Act of 1974, as amended. This system will be used to obtain information from individuals donating blood in order to identify and verify donor demographics; determine donor suitability; associate donors to blood collections for testing; and create records necessary to identify and notify recipients of potential or known infectious blood units. Information collected is also used to determine the suitability of voluntary blood donations, record time of blood donation, and blood type; administer the Armed Services Blood Program (ASBP); and in some instances, recommend medical treatment for prospective blood donors.

DATES: Comments will be accepted on or before August 11, 2014. This proposed action will be effective on the day following the end of the comment period unless comments are received which result in a contrary determination.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Linda S. Thomas, Chief, Defense Health Agency Privacy and Civil Liberties Office, 7700 Arlington Boulevard, Suite 5101, Falls Church, VA 22042-5101, or by phone at (703) 681-7500.

SUPPLEMENTARY INFORMATION: The Defense Health Agency notices for systems of records subject to the Privacy Act of 1974 (5 U.S.C. 552a), as amended, have been published in the Federal Register and are available from the address in FOR FURTHER INFORMATION CONTACT or at the Defense Privacy and Civil Liberties Office Web site http://dpclo.defense.gov/.

The proposed system report, as required by 5 U.S.C. 552a(r) of the Privacy Act of 1974, as amended, was submitted on July 1, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 8, 2014.
Aaron Siegel,
Alternate OSD Federal Register Liaison Officer, Department of Defense.

EDHA 25 DoD

System name:

Enterprise Blood Management System (EBMS)

System location:

Primary location: Enterprise Infrastructure (EI) Military Health System (MHS) Enterprise Services Operations Center (MESOC) San Antonio, 300 Convent Street, Suite 1800, San Antonio, TX 78205-3742.

Secondary locations:

Enterprise Infrastructure (EI) Military Health System (MHS) Enterprise Services Operations Center (MESOC) Aurora, 16401 East Centretech Parkway, Aurora, CO 80011-9066.

For a complete listing of all system location addresses, contact the system manager.

Categories of individuals covered by the system:

Donors: Any member of the Armed Services, Department of Defense (DoD) civilian employees (including non-appropriated fund employees), DoD contractors, federal employees from other federal agencies, civilians, and foreign nationals donating blood at one or more DoD blood donor collection sites.

Recipients: Armed Services medical beneficiaries who receive or have received medical care at one or more DoD medical treatment facilities and who have a need for a blood services encounter; and DoD civilian employees (including non-appropriated fund employees), federal employees from other federal agencies, contractors, civilians, and foreign nationals who receive or have received care at one or more DoD medical treatment facilities and who have a need for a blood services encounter.

Categories of records in the system:

Donors: Name; date of birth; Social Security Number (SSN) and/or DoD Identification (DoD ID) number; in the case of a foreign national, the foreign national number assigned to that individual; donor family member prefix and/or sponsor SSN or DoD ID number; gender; race/ethnicity; contact phone number(s); home address; personal email address; medical history; current health and disability information; and employment information (including, for donors who are Armed Services members, the donor's organization, station, and duty phone), and previous donation history.

Recipients: Individual's name and other name(s) used, date of birth, SSN and/or DoD ID number, gender, race/ethnicity, medical information, and recipient's previous donation history (if any).

Authority for maintenance of the system:

10 U.S.C. Chapter 55, Medical and Dental Care; 32 CFR Part 199, Civilian Health and Medical Program of the Uniformed Services (CHAMPUS); DoD Directive 6000.12E, Health Service Support; DoD Instruction (DoDI) 6015.23, Delivery of Healthcare at Military Treatment Facilities: Foreign Service Care; Third-Party Collection; Beneficiary Counseling and Assistance Coordinators (BCACs); DoDI 6480.04, Armed Services Blood Program Operational Procedures; and E.O. 9397 (SSN), as amended.

Purpose(s):

To obtain information from individuals donating blood in order to identify and verify donor demographics; determine donor suitability; associate donors to blood collections for testing; and create records necessary to identify and notify recipients of potential or known infectious blood units. Information collected is also used to determine the suitability of voluntary blood donations, record time of blood donation, and blood type; administer the Armed Services Blood Program (ASBP); and in some instances, recommend medical treatment for prospective blood donors.

To permit verification and authentication of the individuals receiving blood transfusions.

To trace blood units and blood products that are unsuitable to transfer, and previous units donated by the same donor, for review and possible recipient notifications.

To obtain information on individuals receiving blood transfusions through the ASBP, and the donor(s) of that blood for use in an automated and standardized quality information system to ensure the safety and quality of the blood supply in support of the Military Health System's medical readiness and healthcare treatment activities.

Routine uses of records maintained in the system, including categories of users and the purposes of such uses:

In addition to those disclosures generally permitted under 5 U.S.C. 552a(b) of the Privacy Act of 1974, as amended, these records may be specifically disclosed outside the DoD as a routine use pursuant to 5 U.S.C. 552a(b)(3) as follows:

To the Department of Health and Human Services (HHS) and its components for the purpose of conducting research and analytical projects, and to facilitate collaborative research activities between DoD and HHS.

To the Department of Veterans Affairs (VA) for the purpose of providing medical care to former Armed Services members and retirees and facilitating collaborative research activities between the DoD and VA.

To the National Research Council, National Academy of Sciences, and similar institutions for authorized health research in the interest of the Federal Government and the public.

To other federal, local, and state government agencies for compliance with federal, state, and local laws and regulations governing blood supply safety, control of communicable diseases, preventive medicine and safety, and other public health and welfare mandates relating to blood supplies.

To federal offices and agencies involved in the documentation and review of defense occupational and environmental exposure data.

The DoD Blanket Routine Uses may apply to this system of records, except as stipulated in the Notes below.

Note 1: This system of records contains individually identifiable health information. The DoD Health Information Privacy Regulation (DoD 6025.18-R) or any successor DoD issuances implementing the Health Insurance Portability and Accountability Act of 1996 (HIPAA) and 45 CFR Parts 160 and 164, Health and Human Services, General Administrative Requirements and Security & Privacy, respectively, within the DoD applies to most such health information. DoD 6025.18-R or any successor issuance may place additional procedural requirements on the uses and disclosures of such information beyond those found in the Privacy Act of 1974, as amended, or mentioned in this system of records notice.

Note 2: Except as provided under 42 U.S.C. 290dd-2, records of identity, diagnosis, prognosis or treatment of any patient maintained in connection with the performance of a program or activity relating to substance abuse education, prevention, training, treatment, rehabilitation, or research which is conducted, regulated, or directly or indirectly assisted, by a department or agency of the United States, will be treated as confidential and disclosed only for the purposes and under the circumstances expressly authorized in 42 U.S.C. 290dd-2.

Policies and practices for storing, retrieving, accessing, retaining, and disposing of records in the system:

Storage:

Electronic storage media.

Retrievability:

Donor: Donor name, SSN and/or DoD ID number, and date of birth.

Recipient: Recipient name, SSN and/or DoD ID number, and date of birth.

Safeguards:

Systems are maintained in controlled areas accessible only to authorized personnel. Entry into these areas is restricted to those personnel with a valid requirement and authorization to enter. Physical entry is restricted by the use of locks, passwords which are changed periodically, and administrative procedures.

The system provides two-factor authentication including Common Access Cards with pin number and user ID/passwords. Access to personal information is restricted to those who require the data in the performance of their official duties. All personnel whose official duties require access to the information are trained in the proper safeguarding and use of the information.

Retention and disposal:

Disposition pending (treat records as permanent until the National Archives and Records Administration has approved the retention and disposal schedule).

System manager(s) and address:

EBMS Program Manager, Defense Health Clinical Systems (DHCS)/Deployment and Readiness System (D&RS), 5109 Leesburg Pike, Skyline 6, Suite 817, Falls Church, VA 22041-3240.

Notification procedure:

Individuals seeking to determine whether information about themselves is contained in this system of records should address written inquiries to the Chief, Freedom of Information Act (FOIA) Service Center, Defense Health Agency Privacy and Civil Liberties Office, 7700 Arlington Boulevard, Suite 5101, Falls Church, VA 22042-5101.

Requests should contain the name and number of this system of records notice, the individual's full name, current address, telephone number, and signature.

If requesting information about a minor or legally incompetent person, the request must be made by the custodial parent, legal guardian, or party acting in loco parentis of such individual. Written proof of that status may be required before the existence of any information will be confirmed.

Record access procedures:

Individuals seeking access to information about themselves contained in this system of records should address written inquiries to the Chief, FOIA Service Center, Defense Health Agency Privacy and Civil Liberties Office, 7700 Arlington Boulevard, Suite 5101, Falls Church, VA 22042-5101.

Requests should contain the name and number of this system of records notice, the individual's full name, current address, telephone number, and signature.

If requesting records about a minor or legally incompetent person, the request must be made by the custodial parent, legal guardian, or party acting in loco parentis of such individual. Written proof of that status may be required before any records will be provided.

Contesting record procedures:

The Office of the Secretary of Defense (OSD) rules for accessing records, for contesting contents and appealing initial agency determinations are published in OSD Administrative Instruction 81, 32 CFR Part 311, or may be obtained from the system manager.

Record source categories:

Individuals, information printed on blood samples, the Composite Health Care System, and AHLTA.

Exemptions claimed for the system:

None.

[FR Doc. 2014-16208 Filed 7-10-14; 8:45 am]

BILLING CODE 5001-06-P